FEDERAL RETIREMENT THRIFT INVESTMENT BOARD

5 CFR Parts 1630, 1640 and 1653

Privacy Act Regulations, Periodic Participant Statements and Court Orders and Legal Processes Affecting Thrift Savings Plan Accounts

AGENCY: Federal Retirement Thrift Investment Board.

ACTION: Direct final rule.

SUMMARY: The Federal Retirement Thrift Investment Board (Agency) is amending its regulations to reflect the Agency's use of account numbers in place of Social Security numbers as the primary way of identifying participants' TSP accounts as well as the replacement of the Personal Identification Numbers (PINs) with passwords to enter the Account Access portion of the TSP Web site. These changes represent enhanced security measures for the TSP.

DATES: This rule is effective October 1, 2007, without further action, unless adverse comment is received by September 21, 2007. If adverse comment is received, the Agency will publish a timely withdrawal of the rule in the Federal Register.

ADDRESSES: Comments may be sent to Thomas K. Emswiler, General Counsel, Federal Retirement Thrift Investment Board, 1250 H Street, NW., Washington, DC 20005. The Agency's Fax number is (202) 942-1676.

FOR FURTHER INFORMATION CONTACT: Megan Graziano on (202) 942-1660.

SUPPLEMENTARY INFORMATION: The Agency administers the TSP, which was established by the Federal Employees' Retirement System Act of 1986 (FERSA), Public Law 99-335, 100 Stat. 514. The TSP provisions of FERSA are codified, as amended, largely at 5 U.S.C. 8351 and 8401-79. The TSP is a tax-deferred retirement savings plan for Federal civilian employees and members of the uniformed services. The TSP is similar to cash or deferred arrangements established for private-sector employees under section 401(k) of the Internal Revenue Code (26 U.S.C. 401(k)).

Privacy Act Regulations/Periodic Participant Statements/Court Orders and Legal Processes Affecting Thrift Savings Plan Accounts

In order to provide increased account and identity security to its participants, the Agency is amending its privacy, participant statement, and court order and legal process regulations to reflect its use of account numbers in place of Social Security numbers as the primary means of identifying and accessing TSP participants' accounts as well as its use of longer and more complex Web passwords in place of 4-digit PINs for access to the account information on the TSP Web site.

Regulatory Flexibility Act

I certify that these regulations will not have a significant economic impact on a substantial number of small entities. They will affect only employees of the Federal Government.

Paperwork Reduction Act

I certify that these regulations do not require additional reporting under the criteria of the Paperwork Reduction Act.

Unfunded Mandates Reform Act of 1995

Pursuant to the Unfunded Mandates Reform Act of 1995, 2 U.S.C. 602, 632, 653, 1501-1571, the effects of this regulation on state, local, and tribal governments and the private sector have been assessed. This regulation will not compel the expenditure in any one year of $100 million or more by state, local, and tribal governments, in the aggregate, or by the private sector. Therefore, a statement under § 1532 is not required.

Submission to Congress and the Government Accountability Office

Pursuant to 5 U.S.C. 810(a)(1)(A), the Agency submitted a report containing this rule and other required information to the U.S. Senate, the U.S. House of Representatives, and the Comptroller General of the United States before publication of this rule in the Federal Register. This rule is not a major rule as defined at 5 U.S.C. 814(2).

List of Subjects

5 CFR Part 1630

Privacy.

5 CFR Part 1640

Government employees, Pensions, Retirement.

5 CFR Part 1653

Alimony, Claims, Government employees, Pensions, Retirement.

Thomas K. Emswiler,
General Counsel, Federal Retirement Thrift Investment Board.

For the reasons set forth in the preamble, the Agency amends 5 CFR chapter VI as follows:

PART 1630—PRIVACY ACT REGULATIONS

1. The authority citation for part 1630 continues to read as follows:

Authority: 5 U.S.C. 552a.

2. In § 1630.2, redesignate paragraphs (c) through (p) as paragraphs (e) through (r), redesignate paragraphs (a) and (b) as paragraphs (b) and (c), and add new paragraphs (a) and (d) to read as follows:

§ 1630.2 Definitions.

* * * * *

(a) Account number means the number assigned by the Agency to each participant's TSP account which serves as the primary identification mechanism for a participant's account. The participant's Social Security number will remain the identifier for the submission of data and funds from agency and uniformed services payroll offices, for the submission of information to the Internal Revenue Service about distributions, and for some other administrative purposes.

* * * * *

(d) Case reference number means the number assigned by the Agency to the recipient of a court order payment or a death benefit payment.

* * * * *

3. Amend § 1630.4 by revising the fifth sentence and adding a sixth and seventh sentence in paragraph (a)(1) and revising the fifth sentence in paragraph (a)(2) as follows:

§ 1630.4 Request for notification and access.

(a) * * * (1) * * * A written inquiry from a participant must include the participant's name and the participant's account number or Social Security number. A written inquiry from a spouse or former spouse or a beneficiary of the participant must include the inquiring party's name and Social Security number or, if available, the case reference number as well as the name and Social Security number or account number of the participant. Other third party inquiries (e.g., from other Federal agencies authorized to obtain information about the participant's account) must include, at a minimum, the participant's name and Social Security number.

* * * * *

(2) * * * To access these features, the participant may be required to provide identity and account verification information such as his or her account number, PIN, or Web password.

* * * * *

4. Amend § 1630.7 as follows:

a. Revised paragraph (b).

b. In the first sentence in paragraph (c)(1) after the words “their respective” add the words “account numbers (or case reference numbers) or”.

c. In the first sentence in paragraph (c)(2) after the words and punctuation mark “her name,” add the words “account number (or case reference number) or”.

d. In paragraph (c)(3) amend the second sentence and remove the third sentence as follows:

§ 1630.7 Identification requirements.

* * * * *

(b) In writing. A participant shall provide his or her name, date of birth, and account number or Social Security number and shall sign the request. Most other individuals shall provide the participant's account number or Social Security number, shall provide a statement of relationship to the participant unless it is clearly identified in the nature of the correspondence, and shall sign the request. If a request for access is granted by mail and, in the opinion of the Privacy Act Officer or record keeper designee after consulting with the appropriate system manager, the disclosure of the records through the mail may result in harm or embarrassment (if a person other than the subject individual were to receive the records), a notarized statement of identity or some other similar assurance of identity will be required.

* * * * *

(c) * * *

(3) * * * These systems may require identity and account verification information such as the participant's account number and Web password or PIN for the Web site and ThriftLine respectively.

PART 1640—PERIODIC PARTICIPANT STATEMENTS

5. The authority citation for part 1640 continues to read as follows:

Authority: 5 U.S.C. 8439(c)(1) and (c)(2), 5 U.S.C. 8474(b)(5) and (c)(1).

§ 1640.3 [Amended]

6. In § 1640.3, paragraph (a), remove the words “Social Security” and add, in their place, the word “account.”

PART 1653—COURT ORDERS AND LEGAL PROCESSES AFFECTING THRIFT SAVINGS PLAN ACCOUNTS

7. The authority citation for part 1653 continues to read as follows:

Authority: 5 U.S.C. 8435, 8436(b), 8437(e), 8439(a)(3), 8467, 8474(b)(5) and 8474(c)(1).

8. In § 1653.2, paragraph (a)(3)(iv), revise Examples (1), (2), and (3) to read as follows:

§ 1653.2 Qualifying retirement benefits court orders.

(a) * * *

(3) * * *

(iv) * * *

Example (1). ORDERED: [payee's name, Social Security number (SSN), and address] is awarded $____ from the [civilian or uniformed services] Thrift Savings Plan account of [participant's name, account number or SSN, and address].

Example (2). ORDERED: [payee's name, SSN, and address] is awarded ____% of the [civilian and/or uniformed services] Thrift Savings Plan account[s] of [participant's name, account number or SSN, and address] as of [date].

Example (3). ORDERED: [payee's name, SSN, and address] is awarded [fraction] of the [civilian and/or uniformed services] Thrift Savings Plan account[s] of [participant's name, account number or SSN, and address] as of [date].

§ 1653.3 [Amended]

9. In § 1653.3(b)(1), before the words “Social Security number (SSN)” add the words “account number or.”

§ 1653.13 [Amended]

10. In § 1653.13(b)(1), before the words “Social Security number (SSN)” add the words “account number or.”

[FR Doc. E7-17646 Filed 9-6-07; 8:45 am]

BILLING CODE 6760-01-P